INTERNATIONAL TRADE COMMISSION

[Investigation No. 337-TA-541]

In the Matter of Certain Power Supply Controllers and Products Containing Same; Issuance of a Limited Exclusion Order; Termination of the Investigation

AGENCY: U.S. International Trade Commission.

ACTION: Notice.

SUMMARY: Notice is hereby given that the U.S. International Trade Commission has issued a limited exclusion order in the above-captioned investigation directed against products of respondent System General Corporation (“SG”) of Taipei, Taiwan. The investigation is terminated.

FOR FURTHER INFORMATION CONTACT: Michelle Walters, Esq., Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On June 13, 2005, the Commission instituted this investigation, based on a complaint filed by Power Integrations, Inc. (“PI”) of San Jose, California. 70 FR 34149 (June 13, 2005). The complaint, as amended and supplemented, alleged violations of section 337 of the Tariff Act of 1930 (19 U.S.C. 1337) in the importation into the United States, the sale for importation, and the sale within the United States after importation of certain power supply controllers and products containing the same. The Commission determined that SG violated section 337 by reason of infringement of claims 1, 3, 5, and 6 of United States Patent No. 6,351,398 (“the '398 patent”) and claims 26 and 27 of United States Patent No. 6,538,908 (“the '908 patent”). The Commission requested written submissions from the parties relating to the appropriate remedy, whether the statutory public interest factors preclude issuance of that remedy, and the amount of bond to be imposed during the Presidential review period. All parties filed written submissions.

Having reviewed the record in this investigation, including the written submissions of the parties, the Commission has made its determination on the issues of remedy, the public interest, and bonding. The Commission has determined that the appropriate form of relief is a limited exclusion order prohibiting the unlicensed entry of power supply controllers that infringe one or more of claims 1, 3, 5, and 6 of the '398 patent or claims 26 and 27 of the '908 patent and that are manufactured by or on behalf of SG, its affiliated companies, parents, subsidiaries, licensees, contractors, or other related business entities, or successors or assigns. The Commission has also determined to prohibit the unlicensed entry of LCD computer monitors, AC printer adapters, and sample/demonstration boards containing such infringing power supply controllers.

The Commission further determined that the public interest factors enumerated in section 337(d)(1) (19 U.S.C. 1337(d)(1)) do not preclude issuance of the limited exclusion order. Finally, the Commission determined that the amount of bond to permit temporary importation during the Presidential review period (19 U.S.C. 1337(j)) shall be in the amount of thirty-eight (38) cents per power supply controller circuit or LCD computer monitor, AC printer adapter, or sample/demonstration board containing the same that are subject to the order. The Commission's order was delivered to the President and the United States Trade Representative on the day of its issuance.

The authority for the Commission's determination is contained in section 337 of the Tariff Act of 1930, as amended (19 U.S.C. 1337), and in section 210.50 of the Commission's Rules of Practice and Procedure (19 CFR 210.50).

By order of the Commission.
Issued: August 11, 2006.
Marilyn R. Abbott,
Secretary to the Commission.

[FR Doc. E6-13512 Filed 8-15-06; 8:45 am]

BILLING CODE 7020-02-P